DEPARTMENT OF COMMERCE

National Oceanic and Atmospheric Administration

RIN 0648-XD187

Endangered and Threatened Species; Take of Anadromous Fish

AGENCY: National Marine Fisheries Service (NMFS), National Oceanic and Atmospheric Administration (NOAA), Commerce.

ACTION: Correction.

SUMMARY: On March 21, 2014, the Federal Register published a notice informing the public that NMFS had received 10 scientific research permit application requests relating to Pacific salmon, sturgeon, rockfish, and eulachon. In that notice, one of the prospective permits was accidentally given an incorrect identifying number: the number given was Permit 18620, the text should have read Permit 18260.

DATES: Comments or requests for a public hearing on the applications must be received at the appropriate address or fax number (see ADDRESSES) no later than 5 p.m. Pacific standard time on April 21, 2014.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Need for Correction

On March 21, 2014, we (NOAA) published a notice (79 FR 15729, FR Doc. 2014-06154) notifying the public that the agency had received 10 scientific research permit applications. Inadvertently, a permit's number was transposed. This document provides the correct permit number.

On page 15730, in the third column, the first heading reads Permit 18620. This number is incorrect. The heading should read Permit 18260. All other information in this document is correct and remains unchanged.

Dated: March 26, 2014.
Angela Somma,
Chief, Endangered Species Division, Office of Protected Resources, National Marine Fisheries Service.

[FR Doc. 2014-07117 Filed 3-28-14; 8:45 am]

BILLING CODE 3510-22-P